DEPARTMENT OF ENERGY

Federal Energy Regulatory Commission

Notice of Intent Not To File an Application for a New License

October 22, 2003.

a. Type of Filing: Notice of Intent Not to File an Application for a New License.

b. Project No.: 2225.

c. Date Filed: September 23, 2003.

d. Submitted By: Public Utility District No. 1 of Pend Oreille County—current licensee.

e. Name of Project: Sullivan Creek Project.

f. Location: On Sullivan Creek in Pend Oreille County, Washington.

g. Filed Pursuant to: Section 15 of the Federal Power Act.

h. Licensee Contact: Mr. Mark Cauchy, Public Utilities District No. 1, Pend Oreille County, 130 North Washington, Newport, WA 99156 or (509) 447-3137.

i. FERC Contact: Tim Looney, timothy.looney@ferc.com or (202) 502-6096.

j. Effective date of current license: October 1, 1950.

k. Expiration date of current license: September 30, 2008.

l. Description of the Project: The project consists of the following existing facilities:

(a) Sullivan Lake dam; (b) Mill Pond dam; (c) Mill Pond historic site; (d) wood flume and earth canal; (e) tunnel; (f) powerhouse; and (g) appurtenant facilities. The project has no installed capacity.

m. Each application for a new license and any competing license applications must be filed with the Commission at least 24 months prior to the expiration of the existing license. All applications for license for this project must be filed by September 30, 2006.

n. A copy of this filing is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or TTY (202) 502-8659. A copy is also available for inspection and reproduction at the address in item h above.

o. Register online at http://www.ferc.gov/esubscribenow.htm to be notified via email of new filings and issuances related to this or other pending projects. For assistance, contact FERC Online Support as shown in the paragraph above.

Magalie R. Salas,
Secretary.

[FR Doc. E3-00136 Filed 10-29-03; 8:45 am]

BILLING CODE 6717-01-P